DEPARTMENT OF DEFENSE

Department of the Navy

Record of Decision for 2005 Base Realignment and Closure Actions at National Naval Medical Center, Bethesda, MD

AGENCY: Department of the Navy, DoD.

ACTION: Notice of record of decision.

SUMMARY: Pursuant to Section 102(2)(c) of the National Environmental Policy Act (NEPA) of 1969, 42 U.S.C. Section 4332(2)(c), the regulations of the Council on Environmental Quality (CEQ) for Implementing the Procedural Provisions of (40 CFR parts 1500-1508) and the Department of the Navy (DON) NEPA regulation (32 CFR part 775), the DON announces its decision to implement 2005 Base Realignment and Closure (BRAC) Actions at the National Naval Medical Center (NNMC) in Bethesda, MD. The implementation of BRAC 2005 at NNMC will be accomplished as set out in the Preferred Alternative and described in the Final Environmental Impact Statement (Final EIS).

FOR FURTHER INFORMATION CONTACT: Officer in Charge—BRAC, NNMC, 8901 Wisconsin Avenue, Bethesda, MD 20889. Telephone 301-319-4561.

SUPPLEMENTARY INFORMATION: The Defense Base Closure and Realignment Act of 1990, Public Law 101-510 directs the implementation of the BRAC Commission recommendations. The BRAC Commission recommendations affect NNMC in Bethesda, MD by relocating certain Walter Reed Army Medical Center (WRAMC) activities from Washington, DC to NNMC, establishing it as the Walter Reed National Military Medical Center (WRNMMC). The specific BRAC 2005 recommendation is to realign WRAMC, Washington, DC, as follows: Relocate all tertiary (sub-specialty and complex care) medical services to NNMC, Bethesda, MD, establishing it as the WRNMMC Bethesda, MD; relocate Legal Medicine to the new WRNMMC Bethesda, MD; relocate sufficient personnel to the new WRNMMC Bethesda, MD, to establish a Program Management Office that will coordinate pathology results, contract administration, and quality assurance and control of Department of Defense (DoD) second opinion consults worldwide; relocate all non-tertiary (primary and specialty) patient care functions to a new community hospital at Fort Belvoir, VA. The BRAC law requires the completion of the realignment actions by 15 September 2011.

The purpose for the Proposed Action is to establish a single premier military medical center at the NNMC Bethesda site in accordance with the BRAC legislation. The need for the Proposed Action is to implement the BRAC law, which requires development of both new and improved facilities to accommodate the projected additional patients and staff on account of the known shortfall of facility space and associated infrastructure to support them at the existing NNMC. The BRAC-directed relocations from WRAMC will result in movement of medical and medical support services to NNMC and implementation of BRAC Commission recommendations would result in an increase of approximately 2,200 personnel or staff. Similarly, additional visitors and patients entering NNMC could average approximately 1,862 on a typical weekday. These facilities would support the following military medical tertiary care functions: Additional inpatient and outpatient care; traumatic brain injury and psychological health care; additional medical administration space; transitional health care spaces for patients requiring aftercare following successful inpatient treatment, to include appropriate lodging accommodations on campus for these patients and their supporting aftercare staff; a fitness center for patients and staff; and additional parking for patients, staff, and visitors.

The Proposed Action is to provide necessary facilities to implement the BRAC 2005 realignment actions. To implement the actions directed by the 2005 BRAC law, the Navy proposes to provide: (a) Additional space for inpatient and outpatient medical care as well as necessary renovation of existing medical care space to accommodate the increase in patients; (b) a National Intrepid Center of Excellence for Traumatic Brain Injury and Psychological Health diagnosis, treatment, clinical training, and related services to meet an urgent need for traumatic brain injury and psychological health care; (c) medical administration space; (d) clinical and administrative space for the Warrior Transition Unit to deliver transitional aftercare and associated patient education programs; (e) Bachelor Enlisted Quarters to accommodate the projected increase in permanent party enlisted medical and support staff as well as provide transitional lodging required to support aftercare patients receiving treatment on an extended basis; (f) a fitness center for the rehabilitation of patients and for staff; (g) parking for the additional patients, staff, and visitors; and (h) two Fisher Houses™ to provide patients with transitional homelike lodging.

Public Involvement: From the initial stages of the NEPA process, the Navy has actively engaged and encouraged public participation. The Navy published a Notice of Intent (NOI) to prepare an EIS in the Federal Register (Vol. 71, No. 224, Page 67343) on November 21, 2006, which initiated a 45-day scoping period ending on January 4, 2007. The Navy held four public scoping meetings in Bethesda, MD between December 12, 2006 and December 20, 2006. The Navy notified key federal, state, and local officials and the public of the scoping meetings via various avenues, including: Direct contact, leading local newspapers, notification flyers, and an announcement on publicly accessible NNMC and Montgomery County Web sites. In response to requests for additional time for public participation, the Navy continued to accept comments until February 3, 2007, and held two additional public information meetings in Bethesda, MD on January 30, 2007 and on February 1, 2007. All comments received were considered in the preparation of the Draft EIS.

The U.S. Environmental Protection Agency (USEPA) published a Notice of Availability (NOA) for the Draft EIS in the Federal Register (Vol. 72, No. 240, Page 71138) on December 14, 2007. The publication of the NOA initiated the 45-day public review period, which ended on January 28, 2008. The Navy published the NOA and Notice of Public Hearing (NOPH) in the Federal Register (Vol. 72, No. 240, Page 71126) on December 14, 2007. To notify key federal, state, and local officials and the public, the Navy used similar channels for the Draft EIS NOA/NOPH as for the public scoping period.

The Navy held two public hearing meetings in Bethesda, MD on January 9 and 10, 2008. Attendees included representatives of federal, state, and local agencies, and the general public. The Navy received approximately 1,200 comments with the majority of the comments focusing on transportation, external coordination issues, compatibility with other community planning efforts, and other environmental issues and factors. The Navy reviewed and addressed all comments received in the Final EIS. The Navy published the NOA for the Final EIS in the Federal Register (Vol. 73, No. 65, Page 18262) on April 3, 2008. The USEPA published the NOA for the Final EIS in the Federal Register (Vol. 73, No. 66, Page 18527) on April 4, 2008, which initiated a 30-day Wait Period (no action period).

Alternatives Considered: The Navy evaluated alternatives that would meet the purpose and need of the action and applied screening criteria to identify alternatives that were “reasonable”. The screening process and selection criteria were set out in the EIS (Section 2.10). The result of the screening process was the evaluation of two BRAC action alternatives, referred to in the Final EIS as the Preferred Alternative and Alternative Two, and the evaluation of the No Action Alternative. Both BRAC action alternatives would provide the new WRNMMC with approximately 1,652,000 square feet (SF) of new building construction and renovation, as well as a net gain of approximately 1,800 parking spaces. The Final EIS alternatives assume that there would be 1,862 additional patients and visitors each weekday and a conservative estimate of 2,500 additional personnel. The two BRAC action alternatives have a common concept for the major medical care facilities, siting them in proximity to the existing medical care facilities on the western side of the installation. The alternatives differ in their siting of the required facilities within the installation and in their use of new construction versus renovation of existing buildings to obtain some of the needed administrative space. Both alternatives would implement state of the art features in medical design and environmental best management practices (BMPs) such as Leadership in Energy and Environmental Design (LEED) Silver certifications for new construction.

Preferred Alternative. The Preferred Alternative would implement the Proposed Action with the facilities described above by adding to NNMC approximately 1,144,000 SF of new building construction; approximately 508,000 SF of renovation to existing building space; and approximately 824,000 SF of new parking facilities. The Navy selected the Preferred Alternative because of superior functional efficiency with regard to the placement of the National Intrepid Center of Excellence and two Fisher Houses™, lower costs associated with employing more renovation to provide needed facilities, and lower environmental impacts.

Alternative Two. Alternative Two would implement the Proposed Action by providing the same facilities for the same requirements as for the Preferred Alternative. However, the location and the choice of new construction versus renovation of some facilities would differ from the Preferred Alternative. Alternative Two would add to NNMC approximately 1,230,000 SF of new building construction; approximately 423,000 SF of building renovation to existing building space; and approximately 824,000 SF of new parking facilities.

No Action Alternative. The No Action Alternative was required by statute and evaluated the impacts at NNMC in the event that additional growth from BRAC actions would not occur. Under the No Action Alternative, NNMC would continue to maintain and repair facilities in response to requirements from Congressional action or revisions to building codes. The No Action Alternative would not implement the Proposed Action and would not achieve legal compliance with the BRAC law. The No Action Alternative serves as a baseline alternative against which environmental impacts of the two action alternatives are measured.

Environmentally Preferred Alternative. The No Action Alternative maintains the status quo and therefore does not impact the existing environment. It is the environmentally preferred alternative. However, it does not meet the purpose and need of the action, however, and does not comply with BRAC law. Therefore, a further environmental comparison of the two action alternatives, which meet purpose and need, is provided below.

The Preferred Alternative and Alternative Two provide an equal amount of new space for the BRAC requirements; however, the Preferred Alternative provides this space with 85,000 SF more renovation than Alternative Two and 85,000 SF less new construction than Alternative Two with resultant reduced use of resources. The Preferred Alternative uses more area already developed for its facilities, converting 28 percent less area into impervious surface (3.4 acres versus 4.7 acres), a potentially lesser impact to water resources. However, appropriate stormwater management BMPs would reduce impacts for either alternative. The renovation of Building 17 and potential renovation of Buildings 18 and 21 under the Preferred Alternative could have positive impacts on unused historic resources, while the demolition of historic Building 12, which is an option under the Preferred Alternative, would have an adverse effect. Appropriate mitigation determined under Section 106 consultation would compensate for demolition of Building 12, should it occur. The location of the Fisher Houses™ under Alternative Two are potentially within 150 feet of Woodlands 6, which could provide habitat for the federally-endangered Delmarva Fox Squirrel, necessitating further Section 7 investigations and consultation under the Threatened and Endangered Species Act. No facilities under the Preferred Alternative are within 150 feet of potential habitat for this species and Section 7 consultation is not required. Impacts for other resource areas, including transportation, are essentially the same for the two action alternatives. On balance, the Preferred Alternative is considered environmentally preferred among the two action alternatives.

Decision: After considering the potential environmental consequences of the action alternatives (Preferred Alternative and Alternative Two), and the No Action Alternative, the Navy has decided to implement the Preferred Alternative.

Environmental Impacts: In the EIS, the Navy analyzed the environmental impacts that could occur as a result of implementing each of the alternatives, as well as the No-Action Alternative. Chapters 2 and 4 of the Final EIS provide a detailed discussion of impacts and mitigation measures. This ROD, however, focuses on the impacts associated with the Preferred Alternative.

Geology, Topography and Soils. Approximately 12.2 acres would be disturbed by the construction of new facilities at NNMC, with 8.8 acres of construction on existing impermeable surfaces requiring demolition and 3.4 acres of new construction on open space. This would increase the current 98 acres of impermeable surface area at NNMC by approximately 3.5 percent. Prior to construction at NNMC, a General Permit for Construction Activity would be obtained which would include an approved sediment and erosion control plan. Application of soil erosion and sediment control measures would likely result in minor adverse impacts to soils from construction occurring on open areas and no impacts to soils from construction occurring on sites covered by existing manmade structures such as pavement.

Water Resources. Approximately 3.4 acres of existing pervious soil surfaces at NNMC would be converted to impervious development. Implementation of a sediment and erosion control plan and a state-required stormwater management plan would control any increases in sediment and surface stormwater runoff during construction and operation. The construction would be designed to avoid all floodplains. Wetland habitats would not be affected as a result of implementing the Preferred Alternative. The only proposed structure in the vicinity of the unnamed tributary to Stoney Creek is the Southern Parking facility which would be located at least 75 feet from the tributary. An investigation of this site was conducted and found that there are no wetlands present (Appendix E).

Biological Resources. The proposed projects would convert existing developed land or landscaped areas into developed facilities with landscaped vegetation. Impacts to vegetation could be adverse but not significant because areas considered for the projects are located in areas with existing structures or pavement, or in areas of grassy meadow and lawn with thinly scattered trees and shrubs commonly found within the region. Although no rare, threatened, and endangered species have been identified at NNMC, the U.S. Fish and Wildlife Service has indicated that the federally endangered Delmarva Fox Squirrel could be present in mature pine and hardwood forests in Maryland. No effect to this federally endangered species would be expected because none of the proposed projects require development of mature forest habitat and no activities are proposed within 150 feet of mature forest habitat.

Air Quality. NNMC is in an air quality control region that is in moderate nonattainment for ozone and in nonattainment for particulate matter with diameter less than or equal to 2.5 micrometers (PM2.5), and is in maintenance for carbon monoxide (CO). It is also in an ozone transport region. Federal actions located in nonattainment and maintenance areas are required to demonstrate compliance with the general conformity guidelines. The Final EIS has completed a General Conformity Rule applicability analysis for the ozone precursor pollutants nitrogen oxides and volatile organic compounds, for PM2.5, and the PM2.5 precursor pollutant sulfur dioxide, and for CO to analyze impacts to air quality. It determined that annual project emissions do not exceed the de minimis levels for moderate ozone nonattainment, PM2.5 nonattainment, or CO maintenance levels established in 40 CFR 93.153 (b) for NOX, PM2.5, CO, and SO2 of 100 tons per year or for VOCs of 50 tons per year and are not regionally significant. Therefore, full conformity determination is not required and impacts from these pollutants are not significant. A Record of Non-Applicability was included in the Final EIS. A hot spot evaluation of vehicle CO emissions was also performed both in the parking garages and at the five intersections adjacent to NNMC. The analysis determined that CO concentrations remain below allowable ambient standards.

Noise. Demolition, construction, and renovation noise would occur at NNMC under the Preferred Alternative. The noise would be short-term, typical of construction activities, and would be managed to meet State and Montgomery County criteria. Construction noise near sensitive receptors within and outside NNMC would require careful planning and potential implementation of noise reduction measures. Noise caused by additional traffic would be primarily from passenger cars and would not be expected to change existing noise levels noticeably to receptors along roadways. The potential increase in helicopter activities, primarily for medical emergencies, is expected to increase flights into NNMC by one to two flights per month and is not considered a significant increase from existing conditions.

Infrastructure. Based on initial estimates of utility demands and provider capacity, no major issues are anticipated. The new BRAC projects that add to utility demands at NNMC reduce demands at WRAMC as functions move from older, less efficient buildings at WRAMC to LEED Silver certified buildings at NNMC. As designs are finalized, additional utility studies will be conducted to identify whether improvements to any utility lines or pipes within or outside NNMC are appropriate and these improvements would be implemented as part of the construction. The NNMC systems have adequate redundancy to assure an ability to provide continued service while any line is shut down.

Transportation. The BRAC movement of added staff and patient workload to the existing NNMC campus to create the directed WRNMMC will occur in an already congested urban environment. Results from the Traffic Study analysis show that the additional traffic expected during operation of the BRAC facilities would increase overall traffic in the vicinity of the future WRNMMC during peak hours. The analysis of peak hours provides the worst condition to be expected and includes both new employees and the projected daily patients and visitors in its estimates of peak traffic.

The Traffic Study of 27 intersections near NNMC indicated that 5 intersections near the NNMC campus are projected to operate in excess of the Montgomery County standards during peak hours under the Preferred Alternative. One of these intersections exceeds standards specifically because of the additional traffic under the Preferred Alternative; the remaining four would already operate in excess of County standards under background conditions in 2011, independent of the BRAC Action's added traffic. As noted, the BRAC Alternative traffic adds to volumes at all intersections, including those above standards.

Construction traffic volumes are significantly lower than the commuter and patient or visitor volumes expected during operations; therefore, construction traffic would be expected to have less of an impact on area roadways. The construction crew commuting will be constrained by limiting parking spaces (currently 200 spaces); contractors are committed contractually to (and gain LEED points by) subsidizing mass transit and bussing from designated parking lots for other construction workers. With the area in front of Building 1 being provided for contractor use, contractors will be able to conduct their material staging on the NNMC campus and the entrance to NNMC for this site would be managed to minimize potential effects to Rockville Pike from queuing.

Cultural Resources. Under Section 106 of the National Historic Preservation Act, the Navy is pursuing formal Section 106 consultation to resolve all adverse effects to historic properties. The Navy letter of intent and Maryland Historical Trust concurrence with the Navy approach is included in the FEIS, Appendix A, Part I. In accordance with this agreement, Section 106 consultation for all projects which impact cultural resources will be completed before construction begins on those projects.

The construction of new buildings in the NNMC Bethesda Historic District, particularly the two Medical Additions, impacts the setting of the historic Central Tower Block, its Front Lawn, and protected view shed. The Maryland Historic Trust State Historical Preservation Office (MD SHPO) has concurred with the Navy's determination that Buildings A and B will have no adverse effects to Building 1, under the conditions: (1) The state agency will be provided samples of proposed exterior materials for review and approval and (2) the Navy will ensure that no significant historic landscape features will be permanently damaged by the temporary use of lawns and courtyards for construction staging and management.

The Navy is continuing to consult with Maryland Historical Trust to complete a Memorandum of Agreement (MOA) for the adverse impact to Building 12. This MOA will be signed before Building 12 is demolished.

Land Use. Land use is consistent with plans and precedence. The proposed facilities within NNMC are compatible with adjacent facilities. No direct effects outside the NNMC boundaries to land use are expected. BRAC actions would increase traffic in the area adjacent to NNMC and community planners believe that traffic congestion in the region could cause land development plans to be altered.

Socioeconomics. Major beneficial economic effects to the surrounding economy would be expected resulting from the large investment in construction and renovation of facilities. No relocation of off-base personnel is expected as a result of the proposed action, as staff would be coming from WRAMC, located 6 miles away, within the Region of Influence. Therefore, no significant effects on demographics are expected. The increase in patients and visitors will increase the need for services within NNMC; however, WRNMMC will be designed to have adequate services and adequate lodging for the additional staff and visitors. Therefore, the increase in patients and visitors is unlikely to adversely affect the immediate local area off installation economically, except indirectly as additional traffic. The additional patients and visitors have been incorporated into the analysis of peak hour traffic, which provides the most severe impact on area intersections and roadways.

Human Health and Safety. Although there would be an increase in hazardous material storage, generation of hazardous waste and regulated medical waste, and a potential need for asbestos abatement in older buildings to be demolished or renovated, adherence to standard operating procedures and applicable regulations would insure impacts are avoided. There will be adequate capacity to process the increase in regulated medical waste. Several buildings or areas proposed for construction, demolition, or renovation activities are designated as Solid Waste Management Units and Areas of Concern under the Resource Conservation and Recovery Act (RCRA) Corrective Action Program. The RCRA Facility Assessment for NNMC must be completed in Calendar Year 2010 and all sites will be administratively closed before the end of Calendar Year 2010.

Cumulative Impacts. The conservative use of an estimated 2,500 new employees versus the actual new employee estimate of 2,200 is expected to address potential cumulative impacts for additional employees (currently estimated as 136) for other ongoing and foreseeable future on installation projects not associated with BRAC. Future projects off installation add traffic; the analysis of transportation for the Preferred Alternative was assessed with projected growth and approved roadway improvements off installation for 2011 included in the baseline. The actions of the Preferred Alternative are not expected to result in significantly greater incremental impacts when added to the actions of other projects, except as has been already discussed for each environmental resource area above.

Mitigation: The Final EIS determined that implementing the Preferred Alternative will result in adverse impacts on some environmental resources, as described in the previous section. The EIS identified mitigation to minimize, avoid, or compensate for such effects. All practicable means to avoid or minimize adverse environmental impacts from the preferred alternative will be adopted. The Navy has identified potential mitigation measures to reduce impacts to surface waters from potential soil erosion and runoff, for control of fugitive emissions to air, for construction noise, for traffic impacts that will be generated by the action alternatives, and for potential impacts to cultural resources.

Each of the measures listed for sediment and erosion control, stormwater management, air quality during construction, and noise reduction during construction, will be considered at the appropriate time during design and construction of the BRAC facilities and implementation will be monitored by the Navy's BRAC construction management team. The traffic mitigation measures constitute a broad commitment by the Navy to cooperate with the state and local transportation agencies in their efforts to improve local conditions and to pursue funding and program those improvements under the purview of the Navy. The cultural resources mitigation will be implemented in accordance with agreements reached in Section 106 consultation with the State of Maryland. Section 106 consultation for all projects which impact cultural resources will be completed before construction begins on those projects.

Sediment and Erosion Control Measures. Mitigation will be implemented through a Maryland construction permit. Recommended measures to be considered include, but are not limited to: (1) Using erosion containment controls such as silt fencing and sediment traps to contain sediment onsite where necessary; (2) covering disturbed soil or soil stockpiles with plastic sheeting, jute matting, erosion netting, straw, or other suitable cover material, where applicable; (3) inspecting erosion and sediment control BMPs on a regular basis and after each measurable rainfall to ensure that they are functioning properly, and maintain BMPs (repair, clean, etc.) as necessary to ensure that they continue to function properly; (4) sequencing BMP installation and removal in relation to the scheduling of earth disturbance activities, prior to, during and after earth disturbance activities; and (5) phasing clearing to coincide with construction at a given location to minimize the amount of area exposed to erosion at a given time.

Stormwater Management Measures. A stormwater management plan approved by the State with BMPs will be prepared and implemented. Nonstructural stormwater management practices would be considered and applied to minimize increases in new development runoff. Low Impact Development (LID) measures would be among those considered and implemented when practical. Structural stormwater management practices would be considered and designed to satisfy applicable minimum control requirements. To decrease the overall erosion potential of the site and improve soil productivity, areas disturbed outside of the footprints of the new construction would be aerated and reseeded, replanted, and/or re-sodded following construction activities.

Air Quality Construction Measures. NNMC operates under a Title V permit that requires the installation to take reasonable precautions to prevent particulate matter due to construction and demolition activities from becoming airborne. During construction and demolition, fugitive dust would be kept to a minimum by using control methods. These precautions could include, but are not limited to: (1) Using, where possible, water for dust control; (2) installing and using hoods, fans, and fabric filters to enclose and vent the handling of dusty materials; (3) covering open equipment for conveying materials; (4) promptly removing spilled or tracked dirt or other materials from paved streets and removing dried sediments resulting from soil erosion; and (5) employing a vehicle wash rack to wet loads and wash tires prior to leaving the site.

Noise Reduction During Construction. Construction and demolition contractors will adhere to State of Maryland and Montgomery County noise criteria requirements. Potential measures to control airborne noise impacts that would be considered and implemented as appropriate include: (1) Source limits and performance standards to meet noise level thresholds at sensitive land uses (Montgomery County Standards); (2) designated truck routes; (3) establishment of noise monitoring stations for measuring noise prior to and during construction; (4) design considerations and project layout approaches including measures such as construction of temporary noise barriers, placing construction equipment farther from noise-sensitive receptors, and constructing walled enclosures/sheds around especially noisy activities such as pavement breaking; (5) sequencing operations to combine especially noisy operations to occur in the same time period; (6) alternative construction methods, using special low noise emission level equipment, and selecting and specifying quieter demolition or deconstruction methods; and (7) a construction phasing plan coordinated with patient moves to avoid impacts to patients. Compliance with the Occupational Safety and Health Administration (OSHA) standards for occupational noise exposure associated with construction (29 CFR 1926.52) would address the construction workers' hearing protection.

Potential Measures to Address Traffic Impacts from NNMC Actions. The Navy has identified potential traffic improvements for the 2011 implementation of the alternatives. These measures are both external and internal to NNMC. As discussed below, potential funding sources for these improvements measures vary.

Potential External Roadway and Intersection Improvements. Potential improvement measures were identified and evaluated for those intersections external to NNMC that would operate above the intersection capacity. These improvement measures would remedy impacts from additional traffic caused by the BRAC alternatives. Each of these potential improvements is under the jurisdiction of the State of Maryland and would require funding and implementation through the appropriate State of Maryland Transportation Organizations. The Navy has coordinated the traffic analysis and these potential improvements with the State and local transportation agencies. The Navy remains committed to cooperate to the maximum extent allowed by law with these agencies in the implementation of any or all of the proposed improvement measures.

Recommended Internal Improvements for NNMC. The EIS also identifies potential internal traffic improvement measures for the 2011 implementation of the alternatives. These improvements are within the purview of the Navy for implementation. The Navy has programmed funding for recommended improvements at all gates that would be expected to speed vehicle access and egress, improve circulation, and reduce queuing at the gate. A safety and security analysis is being conducted by DOD at the NNMC gates to improve security and safety and reduce queuing on and off installation. This analysis includes potential improvements or queuing mitigation measures at all of the access gates, to include: North Wood Road Gate, South Wood Road Gate, Gunnell Road Gate, Grier Road Gate, and University Road Gate (USUHS' Gate).

Other projects include: (1) Widen and improve Perimeter Road on NNMC; (2) conduct a study at the NIH Commercial Vehicle Inspection Station on Rockville Pike to determine if a traffic signal is warranted and suitable for submission of a request to state and local transportation authorities for funding and implementation; and (3) improve the intersection of Brown Road/Palmer Road North.

Potential External Improvements For NNMC Access. Several potential improvements external to NNMC that could directly enhance access to NNMC are also being evaluated and the Navy is submitting a request for Defense Access Road (DAR) certification for those that are recommended for implementation. These are further discussed below.

The Navy is evaluating potential improvements at each NNMC gate, to include potential improvements to reduce queuing off installation. The evaluation off installation includes potential improvements at the gate access intersection of Rockville Pike and North Wood Road. The Navy has submitted a request for DAR certification for the following projects:

1. Install new left turn lane along northbound Rockville Pike at North Wood Road Gate and add storage in the left turn lane along southbound Rockville Pike at North Wood Road Gate, and provide a signal at this intersection. This improvement measure would be intended to move turning traffic out of the travel through lanes on Rockville Pike, minimize base traffic from backing up onto local roadways and blocking through traffic, and address incoming employees resulting from the BRAC action without degrading the quality of nearby intersections;

2. Install a bank of elevators on the east side of Rockville Pike to provide direct pedestrian access from NNMC to the Medical Center Metro Station. This project would enhance public safety, by reducing the pedestrian-vehicle conflicts that result from crossing Rockville Pike and would also improve the South Wood Road and Rockville Pike intersection. This project would require close cooperation with the Washington Metropolitan Area Transportation Agency (WMATA).

For each project that is certified by the DAR program, the Navy commits to seek funding from DoD. Execution will be subject to availability of funding through the DoD budget process.

Additional Potential Measures. In addition to the measures listed above, other measures within the Navy's purview include the Navy's decision to update the existing NNMC Transportation Management Plan (TMP) in conjunction with a master plan update. The goals of the existing 1997 TMP are to reduce traffic congestion, conserve energy, and improve air quality by seeking to reduce the number of employee Single Occupant Vehicle (SOV) trips in the workday commute, to better utilize existing parking spaces, and to maximize the use of alternative transportation options. The existing TMP is currently implemented at NNMC and the Navy remains committed to promoting the use of mass transit for its employees and will continue to promote alternatives to single occupant vehicle commuting. Current TMP strategies in use at NNMC include: (1) Shuttle services, (2) Mass Transportation Fringe Benefit (MTFB) Program, (3) parking measures, and (4) TRANSHARE—a NNMC clean-air program that sets goals to increase the percentage of employees using commuting options other than single-occupant vehicles.

It is the Navy's intent that the update to the TMP will reflect the changes that have taken place in the intervening years. It will include recommendations for such physical or operational changes as telecommuting, transit subsidies, shuttle bus services, pedestrian improvements, and bicyclist improvements. A transportation coordinator has been added to the NNMC staff to facilitate implementation of TMP strategies.

Cultural Resources Measures. The Navy is pursuing formal Section 106 consultation to resolve all adverse effects to historic properties. As stipulated in MD SHPO concurrence on the Navy's determination of no adverse effects on Building 1 from Buildings A and B, the Navy will provide the state agency samples of proposed exterior materials for its review and approval and will ensure that no significant historic landscape features will be permanently damaged by the temporary use of lawns and courtyards for construction staging and management.

The Navy is continuing to consult with Maryland Historical Trust to complete a Memorandum of Agreement (MOA) for the adverse impact to Building 12. The mitigation measures proposed in this MOA will include proper documentation of Building 12 including photographs, drawings and a written history; rehabilitation of Building 17; retention of Buildings 18 and 21; and treatment of the landscape in front of Building 1. This MOA will be signed before demolition begins on Building 12.

The other BRAC projects which pose potential adverse affects to cultural resources will have individual Section 106 consultation completed before construction commences on those projects. For each of these consultations, the Navy agrees to implement mitigation as required by the Section 106 consultation process.

Responses to Comments Received on the Final EIS: Public comments on transportation questioned the use of the Maryland National Capital Park and Planning Commission (M-NCPPC) Local Area Transportation Review (LATR) Guidelines for the EIS traffic study, the accuracy of the traffic analyses for the intersection of Cedar Lane and Rockville Pike, and the inclusion of an additional westbound left-turn lane at that intersection as a potential improvement for further study. The application of the Guidelines was stipulated by the BRAC Transportation Technical Advisory Committee, including representatives from the M-NCPPC, Montgomery County, and the Maryland State Highway Administration, which have jurisdiction over the intersections analyzed. The accuracy of the traffic analyses in question has been verified. Implementation of the additional westbound left-turn lane is acknowledged to be very difficult given existing constraints at this location and is therefore not recommended for further study.

Conclusions: In implementing this proposed action at NNMC, Bethesda, MD, I considered the potentially differing impacts to water resources, biological resources, and cultural resources between the Preferred Alternative and Alternative Two, as well as the impacts to the other resource areas such as traffic and transportation. I also considered important differences in mission effectiveness and costs between the Preferred Alternative and Alternative Two.

The Preferred Alternative emphasizes renovation, the use of developed areas, reduced environmental impacts, and estimated cost. The Preferred Alternative includes the renovation of Building 17 and the potential renovation of Buildings 18 and 21, which would result in positive impacts on unused historic resources. The Preferred Alternative would demolish Building 12, which would constitute an adverse effect to be mitigated under historic preservation law, but would optimize the medical care services associated with the National Intrepid Center of Excellence. The Preferred Alternative sites the two Fisher Houses™ in a more spacious and functionally superior site that does not represent any potential impact to the federally endangered Delmarva Fox Squirrel.

On behalf of the Department of the Navy, and based on all relevant factors addressed in the Final EIS, I have selected the Preferred Alternative for the implementation of BRAC 2005 at NNMC, Bethesda, MD. In reaching this determination, I have considered the superior functional efficiency, lower costs, and lower environmental impacts associated with the Preferred Alternative. I have taken into account the consultation process with the Maryland Historic Trust and the National Capital and Planning Commission regarding cultural resources. I have taken into account that Section 106 consultations will be complete for each project before construction commences on that project. I have taken into account the consultation with the U.S. Fish and Wildlife Service regarding endangered species. I have taken into account input from the local and state transportation agencies regarding improvements to traffic conditions. I have considered recommendations and comments provided by federal, state, and local agencies and committees, and the general public throughout the NEPA process, including during formal comment and review periods. I have considered the mitigation and improvement measures identified in the Final EIS. I also took into account the fact that the Proposed Action is required by law and that the No Action Alternative would result in non-compliance with the law. The Preferred Alternative reflects a balance between the protection of the environment, appropriate mitigation, and improvements, and the actions necessary and required to implement the Proposed Action. Consistent with this record of decision, and the Final EIS, the action proponent will implement the Preferred Alternative and address all mitigation measures.

Dated: May 6, 2008.
B.J. Penn,
Assistant Secretary of the Navy (Installations and Environment).

[FR Doc. E8-10752 Filed 5-13-08; 8:45 am]

BILLING CODE 3810-FF-P